Title 3—

The President

Executive Order 13512 of September 29, 2009

Amending Executive Order 13390

By the authority vested in me as President by the Constitution and the laws of the United States of America, including the Robert T. Stafford Disaster Relief and Emergency Assistance Act, as amended (42 U.S.C. 5121 et seq.), and in order to extend the work of the Coordinator of Federal Support for the Recovery and Rebuilding of the Gulf Coast Region, Executive Order 13390 of November 1, 2005, as amended, is further amended by striking “September 30, 2009,” and inserting in lieu thereof “April 1, 2010.”

THE WHITE HOUSE,

Washington, September 29, 2009

[FR Doc. E9-23915

Filed 10-1-09; 8:45 am]

Billing code 3195-W9-P